ENVIRONMENTAL PROTECTION AGENCY

40 CFR Part 300

[FRL-6999-9]

National Oil and Hazardous Substance Pollution Contingency Plan; National Priorities List

AGENCY: Environmental Protection Agency.

ACTION: Direct final notice of deletion of the Tomah Fairgrounds Landfill, Superfund Site from the National Priorities List.

SUMMARY: The Environmental Protection Agency (EPA) Region V is publishing a direct final notice of deletion of the Tomah Fairgrounds Landfill, Superfund Site (Site), located in Tomah, Wisconsin, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the State of Wisconsin, through the Wisconsin Department of Natural Resources because EPA has determined that all appropriate response actions under CERCLA have been completed and, therefore, further remedial action pursuant to CERCLA is not appropriate.

DATES: This direct final deletion will be effective August 20, 2001 unless EPA receives adverse comments by July 23, 2001. If adverse comments are received, EPA will publish a timely withdrawal of the direct final deletion in the Federal Register informing the public that the deletion will not take effect.

ADDRESSES: Comments may be mailed to: David Linnear, Remedial Project Manager (RPM) at (312) 886-6104, Linnear.David@EPA.Gov or Gladys Beard, State NPL Deletion Process Manager at (312) 886-7253, Beard.Gladys@EPA.Gov, (mail code: SR-6J), U.S. EPA Region V, 77 W. Jackson, Chicago, IL 60604 or at 1-800-621-8431.

Information Repositories: Comprehensive information about the Site is available for viewing and copying at the Site information repositories located at: U.S. EPA Region V Library, 77 W. Jackson, Chicago, IL 60604, (312) 353-5821, Monday through Friday 8:00 a.m. to 4:00 p.m.; Tomah Public Library, 716 Superior Ave., Tomah, WI 54660, Monday through Thursday 9:00 a.m. to 8:00 p.m. and Friday and Saturday 9:00 a.m to 5:00 p.m.; Wisconsin Department of Natural Resources, 101 S. Webster Street, Madison, Wisconsin, (608) 266-2111, Monday through Friday 7:45 a.m. to 5:00 p.m.

FOR FURTHER INFORMATION CONTACT: David Linnear, Remedial Project Manager at (312) 886-6104, Linnear.David@EPA.Gov or Gladys Beard, State NPL Deletion Process Manager at (312) 886-7253, Beard.Gladys@EPA.Gov or 1-800-621-8431, (SR-6J), U.S. EPA Region V, 77 W. Jackson, Chicago, IL 60604.

SUPPLEMENTARY INFORMATION:

Table of Contents

I. Introduction

II. NPL Deletion Criteria

III. Deletion Procedures

IV. Basis for Site Deletion

V. Deletion Action

I. Introduction

EPA Region V is publishing this direct final notice of deletion of the Tomah Fairgrounds Landfill, Superfund Site from the NPL.

The EPA identifies sites that appear to present a significant risk to public health or the environment and maintains the NPL as the list of those sites. As described in 300.425(e)(3) of the National Oil and Hazardous Substances Pollution Contingency Plan (NCP), sites from the NPL remain eligible for remedial actions if conditions at a deleted site warrant such action.

Because EPA considers this action to be noncontroversial and routine, EPA is taking it without prior publication of a notice of intent to delete. This action will be effective August 20, 2001 unless EPA receives adverse comments by July 23, 2001 on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Tomah Fairgrounds Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site:

(1) The EPA consulted with Wisconsin on the deletion of the Site from the NPL prior to developing this direct final notice of deletion.

(2) Wisconsin concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document. EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis For Site Deletion

The following information provides EPA's rationale for deleting the Site from the NPL:

Site Location

The Tomah Fairgrounds Landfill Site (Site) covers approximately 15 acres within the boundaries of the 37.5-acre fairgrounds, in Tomah, Monroe County, Wisconsin. The Site is situated at the south edge of town and is a grass-covered open field that is used as a parking lot during fairground events. Land uses to the west are agricultural, to the east, commercial/industrial and to the north and south, residential.

Site History

The Site was used and operated by the City of Tomah as a disposal site from 1955 until 1960. Waste disposal methods consisted of excavating 6 to 8 feet of soil, land filling waste materials, placing a cover consisting of previously excavated topsoil and final grading. Some material disposed of in the landfill may have been burned before it was buried. No disposal records regarding the types or quantities of material buried were maintained.

In 1984, U.S. EPA's Field Investigation Team, with the assistance of the Wisconsin Department of Natural Resources, conducted a preliminary assessment of the Site. The assessment raised concerns about the possible effects of disposal directly into an aquifer and the potential for direct contact with hazardous substances because of erosion of the landfill cap. EPA added the site to the National Priorities List on July 21, 1987.

In September, 1996, the City of Tomah signed an agreement with the Wisconsin Department of Natural Resources under which the City agreed to monitor groundwater for at least 10 years in order to evaluate the progress of natural attenuation; and to maintain zoning and deed restrictions so as to restrict the use of ground water and preclude residential use of the land at the Site.

Remedial Invesigation (RI)

EPA conducted a remedial investigation of the site in two phases. Phase 1 took place in 1993. It collected ground water and soil samples in order to characterize the nature and extent of contamination and associated exposure risks. The results of this sampling indicated that additional samples were needed to adequately characterize the site. Accordingly, EPA moved on to Phase 2 of the RI in 1995. Field investigations for the Phase 2 RI included sampling of surface soils on and off the landfill and installation of monitoring wells for sampling groundwater. The results of surface soil sampling showed no contaminants in excess of Wisconsin standards, except for one sample showing a lead level higher than the state standard. Results of groundwater sampling showed an exceedance of the maximum contaminant level for vinyl chloride in one deep well. There were also exceedances of the maximum contaminant levels for arsenic, chromium, and lead, but only in unfiltered samples, indicating that the elevated metal concentrations were on the suspended solid fraction of the samples rather than dissolved in the water.

Characterization of Risk

EPA used the data collected during the RI to assess human health risks. Under the assumption that the site would continue to be used for recreational purposes, and not for residential development, and that groundwater would not be tapped for drinking water, EPA found no risks in excess of federal standards.

Record of Decision Findings

On September 26, 1996, the Regional Administrator signed a Record of Decision (ROD), selecting a remedy for the Tomah Fairgrounds Site. The ROD determined that “No Further Action” was appropriate due to deed restrictions limiting land use and an agreement between the WDNR and the City of Tomah requiring the City to monitor ground water to evaluate the progress of natural attenuation.

Monitoring Results To Date

The following tables present monitoring results for vinyl chloride, the primary contaminant of concern detected above federal standards in ground water at the Tomah Fairgrounds Site. (The MCL for vinyl chloride is 2 ug/l.) The monitoring results reported here include results from EPA's Remedial Investigation and from the City of Tomah's periodic sampling. No exceedances of the MCL have occurred since 1995.

Monitoring Well Results for Vinyl Chloride
[ug/l]
| MW1 | M/W2 | MW3 | MW4S S | MW4D
8/18/95 | <0.50 | <0.50 | <0.50 | <0.50 | 6.0
9/20/95 | <0.50 | <0.50 | <0.50 | <0.50 | 9.0
1/09/97 | . | . | . | . | 0.90
7/01/97 | <0.20 | <0.20 | <0.20 | <0.20 | 0.32
12/31/97 | . | . | . | . | <0.23
6/24/98 | <0.20 | <0.20 | <0.20 | <0.20 | <0.20

| MW1 | M/W2 | MW3 | MW4S S | MW4D
12/14/98 | . | . | . | . | <0.20
6/04/99 | <0.20 | <0.20 | <0.20 | <0.20 | <0.201
12/21/99 | . | . | . | . | <0.20
6/29/00 | <0.19 | . | . | <0.19 | <0.19
8/2/00 | . | <0.19 | <0.19 | . | .

Private Well Results for Vinyl Chloride
[ug/l]
| DANA | RANDAL L | SAMPSO N | SCHAPPE
8/19/91 | <1.00 | <1.00 | <1.00 |
2/10/92 | <0.50 | <0.50 | . | <0.50
7/12/93 | <1.00 | <1.00 | <1.00 | .
6/29/00 | <0.12 | <0.12 | . | <0.12
8/15/00 | . | . | <0.15 | .

Five-Year Review

Because hazardous substances will remain at the site, EPA committed itself in the Record of Decision to conduct a review of the “no further action” remedy at least every five years. These reviews will be conducted pursuant to CERCLA 121 (c) and as provided in the current guidance on Five Year Reviews: OSWER Directive 9355.7-02, Structure and Components of Five-Year Reviews, May 23, 1991; OSWER Directive 9355.7-02A, Supplemental Five-Year Review Guidance, July 26, 1994, the Second Supplemental Five-Year Review Guidance, December 21, 1995, or other EPA guidance current at the time of the review. The first Five-Year Review will be completed by September 30, 2001.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Wisconsin, has determined that all appropriate responses under CERCLA have been completed, and that no further response actions, under CERCLA, other than five-year reviews, are necessary. Therefore, EPA is deleting the Site from the NPL.

Because EPA considers this action to be noncontroversial and routine, EPA is taking it without prior publication. This action will be effective August 20, 2001 unless EPA receives adverse comments by July 23, 2001. If adverse comments are received within the 30-day public comment period, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: June 12, 2001.
David A. Ullrich,
Acting Regional Administrator, Region 5.

For the reasons set out in this document, 40 CFR part 300 is amended as follows:

PART 300—[AMENDED]

1. The authority citation for Part 300 continues to read as follows:

Authority: 42 U.S.C. 9601-9657; 33 U.S.C. 1321(c)(2); E.O. 12777, 56 FR 54757, 3 CFR, 1991 Comp.; p.351; E.O. 12580, 52 FR 2923, 3 CFR, 1987 Comp.; p.193.

Appendix B—[Amended]

2. Table 1 of Appendix B to Part 300 is amended under Wisconsin “WI” by removing the entry for “Tomah Fairgrounds”.

[FR Doc. 01-15479 Filed 6-20-01; 8:45 am]

BILLING CODE 6560-50-U